AGENCY FOR INTERNATIONAL DEVELOPMENT

Senior Executive Service: Membership of Performance Review Board

ACTION: Notice.

SUMMARY: This notice lists approved candidates who will comprise a standing roster for service on the Agency's 2011 and 2012 SES Performance Review Boards. The Agency will use this roster to select SES board members, and an outside member(s) for the convening SES Performance Review Board each year. The standing roster is as follows:

Allen, Colleen

Brause, Jon

Capozzola, Christa

Carroll, Sean

Chan, Carol

Crumbly, Angelique

Eugenia, Mercedes

Foley, Jason

Gomer, Lisa

Gottlieb, Gregory

Horton, Jerry

McNerney, Angela

O'Neill, Maura

Ostermeyer, David

Pascocello, Susan

Peters, James

Warren, Wade

Wells, Barry

Wiggins, Sandra

Barry Socks, Outside SES Member

John Acton, Outside SES Member

Barbara Pabotoy, Outside SES Member

FOR FURTHER INFORMATION CONTACT: Melissa Jackson, (202) 712-1781.

Dated: October 25, 2011.
Vanessa Prout,
Division Chief, Employee and Labor Relations Division.

[FR Doc. 2011-29427 Filed 11-14-11; 8:45 am]

BILLING CODE P